ENVIRONMENTAL PROTECTION AGENCY

[ER-FRL-6635-4]

Environmental Impact Statements; Notice of Availability

Responsible Agency: Office of Federal Activities, General Information (202) 564-7167 or http://www.epa.gov/compliance/nepa/.

Weekly receipt of Environmental Impact Statements.

Filed November 18, 2002, through November 22, 2002, pursuant to 40 CFR 1506.9.

EIS No. 020477, Draft Supplement, AFS, UT, Griffin Springs Resource Management Project, New Information Contained in the Life History and Analysis of Endangered, Threatened, Candidate, Sensitive, and Management Indicator Species of Dixie National Forest, Escalante Range District, Garfield County, UT, Comment Period Ends: January 13, 2003, Contact: Kevin Schulkoski (435) 826-5400.

EIS No. 020478, Draft EIS, AFS, WI, Northwest Howell Project, Proposing to Harvest Timber; Maintain Wildlife Openings; Regenerate Aspen and Jack Pine Types; Implementation, Eagle River-Florence Ranger District, Chequamegon-Nicolet National Forest, Forest and Florence County, WI, Comment Period Ends: January 13, 2003. Contact: Shirley Frank (715) 528-4464.

EIS No. 020479, Final EIS, AFS, NV, Cave Rock Management Direction, Implementation, Lake Tahoe Basin Management Unit, Douglas Count, NV, Wait Period Ends: December 30, 2002. Contact: John Maher (530) 573-2600.

EIS No. 020480, DRAFT SUPPLEMENT, FAA, FL, Fort Lauderdale-Hollywood International Airport, Revised to the 2008 and 2015 Runway Use Assumption for the Proposed Project Alternative; Revisions to the Predicted Number of Residents Impacted by Noise for all Alternatives using 2000 Census Block Data or Field Inspection, Broward County, FL, Comment Period Ends: January 13, 2003, Contact: Virginia Lane (407) 812-6331 Ext 27.

EIS No. 020481, Final EIS, BLM, AK, Renewal of Federal Grant for the Trans-Alaska Pipeline System, Right-of-Way, Approval, AK, Wait Period Ends: December 30, 2002, Contact: Rob McWhorter (907) 257-1355. This document is available on the Internet at: http://www.tapsrenewal.jpo.doi.gov.

EIS No. 020482, Draft EIS, MMS, AL, MS, TX, FL, LA, Eastern Gulf of Mexico Outer Continental Shelf Oil and Gas Lease Sales 189 (proposed for 2003) and 197 (proposed for 2005) Leasing Program: 2002-2007; Eastern Planning Area, Offshore Marine Environmental, Coastal Counties and Parishes of Texas, LA, MS, AL, and Northwestern FL, Comment Period Ends: January 24, 2003. Contact: Archie Melancon (703) 787-1547.

EIS No. 020483, Final EIS, AFS, MO, Rams Horn Project to Accomplish the Direction and Desired Conditions Identified in the Mark Twain National Forest, Land and Resource Management Plan, Houston/Rolla/Creek Ranger District, Phelps and Pulaski Counties, MO, Wait Period Ends: December 30, 2002. Contact: Mark Hamel (417) 967-4194. This document is available on the Internet at: http://www.fs.fed.us/r9/marktwain/publications.

EIS No. 220484, Final EIS, AFS, ID, The West Gold Creek Project, Forest Management Activities Plan, Implementation, Idaho Panhandle National Forests, Sandpoints Ranger District, Bonner County, ID, Wait Period Ends: December 30, 2002. Contact: Judy York (208) 265-6665. This document is available on the Internet at: http://www.fs.fed.us/ipnf/eco/manage/nepa/index.html.

Dated: November 25, 2002.
Joseph C. Montgomery,
Director, NEPA Compliance Division, Office of Federal Activities.

[FR Doc. 02-30258 Filed 11-27-02; 8:45 am]

BILLING CODE 6560-50-P